DEPARTMENT OF LABOR

Employment and Training Administration

[TA-W-60,041]

Delphi Corporation, Automotive Holdings Group, Needmore Road/Dayton Plant 3, Including On-Site Leased Workers From Aerotek Automotive, PDSI Technical Services, Acro Service Corp., G-Tech Professional Staffing, Tac Automotive, Bartech, Manpower Professional Services, Manpower of Vandalia, Setech and Mays Chemical, Dayton, OH; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on November 30, 2006, applicable to workers of Delphi Corporation, Automotive Holdings Group, Needmore Road/Dayton Plant 3, Dayton, Ohio. The notice was published in the Federal Register on December 12, 2006 (71 FR 74564).

At the request of a petitioner, the Department reviewed the certification for workers of the subject firm. The workers are engaged in the production of automotive brake parts.

New information shows that leased workers from Aerotek Automotive, PDSI Technical Services, Acro Service Corp., G-Tech Professional Staffing, TAC Automotive, Bartech, Manpower Professional Services, Manpower of Vandalia, Setech and Mays Chemical were employed on-site at the Needmore Road/Dayton Plant 3, Dayton, Ohio, location of Delphi Corporation, Automotive Holdings Group. The Department has determined that these workers were sufficiently under the control of the subject firm to be considered leased workers.

Based on these findings, the Department is amending this certification to include leased workers from the above mentioned firms working on-site at the Needmore Road/Dayton Plant 3, Dayton, Ohio, location of the subject firm.

The intent of the Department's certification is to include all workers employed at Delphi Corporation, Automotive Holdings Group, Needmore Road/Dayton Plant 3 who were adversely affected by increased imports of automotive brake parts.

The amended notice applicable to TA-W-60,041 is hereby issued as follows:

“All workers of Delphi Corporation, Automotive Holdings Group, Needmore Road/Dayton Plant 3, including on-site leased workers from Aerotek Automotive, PDSI Technical Services, Acro Service Corp., G-Tech Professional Staffing, TAC Automotive, Bartech, Manpower Professional Services, Manpower of Vandalia, Setech and Mays Chemicals, Dayton, Ohio, who became totally or partially separated from employment on or after August 24, 2005, through November 30, 2008, are eligible to apply for adjustment assistance under Section 223 of the Trade Act of 1974, and are also eligible to apply for alternative trade adjustment assistance under Section 246 of the Trade Act of 1974.”

Signed at Washington, DC, this 3rd day of June 2008.
Linda G. Poole,
Certifying Officer, Division of Trade Adjustment Assistance.

[FR Doc. E8-12970 Filed 6-9-08; 8:45 am]

BILLING CODE 4510-FN-P